AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13.

Comments regarding this information collection are best assured of having their full effect if received within 30 days of this notification, Comments should be sent via e-mail to Ross_A._Rutledge@omb.eop.gov or fax to 202-395-3086. Copies of submission may be obtained by calling (202) 712-1365.

SUPPLEMENTARY INFORMATION:

OMB Number: OMB 0412-New.

Form Number: AID 321-1.

Title: Mentor Protégé Program—Agreement Application.

Type of Submission: New information collection.

Purpose: Entities interested in participating in the U.S. Agency for International Developments (USAID) Mentor-Protégé Program must apply in writing to the USAID Office of Small and Disadvantaged Business Utilization (OSDBU) by submitting the application form. The application will contain the Mentor-Protégé Program Agreement and will be evaluated for approval. Evaluations will consider the nature and extent of technical and managerial support as well as any proposed financial assistance in the form of equity investment, loans, joint venture, and traditional subcontracting support. USAID's current policy on the Mentor-Protégé Program can be found in the AIDAR 719.273.

Annual Reporting Burden:

Respondents: 30.

Total annual responses: 30.

Total annual hours requested: 360 hours.

Dated: October 8, 2010.
Beth Salamanca,
Acting Director, Office of Management Services, Bureau for Management.

[FR Doc. 2010-26413 Filed 10-21-10; 8:45 am]

BILLING CODE 6116-01-M